DEPARTMENT OF TRANSPORTATION

Federal Aviation Administration

Notice of Intent To Request Revision From the Office of Management and Budget of a Currently Approved Information Collection Activity, Request for Comments; Southwest Region Assessment of Aviation Examiners

AGENCY: Federal Aviation Administration (FAA), DOT.

ACTION: Notice and request for comments.

SUMMARY: The FAA invites public comments about our intention to request the Office of Management and Budget (OMB) to approve a current information collection. This project involves collecting data on the quality of flight training and testing.

DATES: Please submit comments by November 13, 2006.

FOR FURTHER INFORMATION CONTACT: Carla Mauney on (202) 267-9895, or be e-mail at: Carla.Mauney@faa.gov.

SUPPLEMENTARY INFORMATION:

Federal Aviation Administration (FAA)

Title: Southwest Region Assessment of Aviation Examiners.

Type of Request: Revision of an approved collection.

OMB Control Number: 2120-0688.

Forms(s): There are no FAA forms associated with this collection.

Affected Public: A total of 1500 Respondents.

Frequency: The information is collected on occasion.

Estimated Average Burden Per Response: Approximately 1 hour per response.

Estimated Annual Burden Hours: An estimated 1500 hours annually.

Abstract: This project involves collecting data on the quality of flight training and testing. The goal of this effort is to identify areas of concern so that the FAA may affect corrections in FAA policy, guidance material, and FAA-sponsored programs in order to improve the overall quality of flight training and testing. Volunteers will be from the Southwest Region who have completed an examination and received a private pilot certificate.

ADDRESSES: Send comments to the FAA at the following address: Mrs. Carla Mauney, Room 1033, Federal Aviation Administration, Information Systems and Technology Services Staff, ABA-20, 800 Independence Ave., SW., Washington, DC 20591.

Comments are invited on: Whether the proposed collection of information is necessary for the proper performance of the functions of the Department, including whether the information will have practical utility; the accuracy of the Department's estimates of the burden of the proposed information collection; and ways to minimize the burden of collection of information on respondents, including the use of automated collection techniques or other forms of information technology.

Issued in Washington, DC, on September 7, 2006.
Carla Mauney,
FAA Information Collection Clearance Officer, Information Systems and Technology Services Staff, ABA-20.

[FR Doc. 06-7638 Filed 9-13-06; 8:45 am]

BILLING CODE 4910-13-M